DEPARTMENT OF HOMELAND SECURITY

Coast Guard

33 CFR Part 117

[CGD07-06-050]

Drawbridge Operation Regulations; Venetian Causeway (West) Drawbridge, Atlantic Intracoastal Waterway, Mile 1088.6, and Venetian Causeway (East) drawbridge, Biscayne Bay, Miami, Miami-Dade County, FL

AGENCY: Coast Guard, DHS.

ACTION: Notice of temporary deviation from regulations.

SUMMARY: The Commander, Seventh Coast Guard District, has approved a temporary deviation from the regulations governing the operation of the Venetian Causeway (West) drawbridge, Atlantic Intracoastal Waterway, mile 1088.6, and Venetian Causeway (East) drawbridge, Biscayne Bay, Miami, Miami-Dade County, Florida. These temporary deviations allow the Coast Guard to test an operating schedule with the drawbridges opening as necessary on a 30-minute schedule from 7 a.m. to 7 p.m., Monday through Friday, except Federal holidays. This deviation will allow the Coast Guard to gather data to determine if these schedules meet the reasonable needs of navigation while accommodating vehicle traffic and whether they should be proposed as permanent changes.

DATES: These deviations are effective from 7 a.m. on April 17, 2006 until 7 p.m. on June 14, 2006.

ADDRESSES: Material received from the public, as well as documents indicated in this preamble as being available in the docket [CGD07-06-050] will become part of this docket and will be available for inspection or copying at Commander (dpb), Seventh Coast Guard District, 909 S.E. 1st Avenue, Room 432, Miami, Florida 33131-3050 between 7:30 a.m. and 4 p.m., Monday through Friday, except Federal holidays.

FOR FURTHER INFORMATION CONTACT: Mr. Michael Lieberum, Project Officer, Seventh Coast Guard District, Bridge Branch at (305) 415-6744.

SUPPLEMENTARY INFORMATION: The Venetian Causeway (West), Atlantic Intracoastal Waterway, mile 1088.6, Miami, Miami-Dade County, Florida is a drawbridge with a vertical clearance of 12 feet above mean high water (MHW) measured at the fenders in the closed position with a horizontal clearance of 90 feet. The current operating regulation in 33 CFR 117.5 requires that the bridge shall open on signal.

The Venetian Causeway (East), Biscayne Bay, Miami, Miami-Dade County, Florida is a drawbridge with a vertical clearance of 5 feet above mean high water (MHW) measured at the fenders in the closed position and a horizontal clearance of 57 feet. The current operating regulation in 33 CFR 117.269 requires that the draw of the East Span of the Venetian Causeway bridge, between Miami and Miami Beach, shall open on signal; except that, from November 1 through April 30 from 7:15 a.m. to 8:45 a.m. and 4:45 p.m. to 6:15 p.m. Monday through Friday, the draw need not be opened. However, the draws shall open at 7:45 a.m., 8:15 a.m., 5:15 p.m., and 5:45 p.m. if any vessels are waiting to pass. The draw shall open on signal on Thanksgiving Day, Christmas Day, New Year's Day and Washington's Birthday. The draw shall open at any time for public vessels of the United States, tugs with tows, regularly scheduled cruise vessels, and vessels in distress.

The residents of Venetian Causeway requested a deviation from the current operating regulations to allow both drawbridges (East and West) to open as necessary on a 30-minute schedule from 7 a.m. to 7 p.m., Monday through Friday, except Federal holidays, in order to relieve vehicular traffic delays.

In light of the foregoing, the Commander, Seventh Coast Guard District, has granted a temporary deviation from the operating requirements listed in 33 CFR 117.5 and 33 CFR 117.269 to test the 30-minute schedule. Under this deviation, the Venetian Causeway (West) Drawbridge, Atlantic Intracoastal Waterway, mile 1088.6, and the Venetian Causeway (East) drawbridge, Biscayne Bay, Miami, Miami-Dade County, Florida shall open as necessary on the hour and half-hour from 7 a.m. to 7 p.m., Monday through Friday, except Federal holidays, April 17 through June 14, 2006. Public vessels of the United States, tugs with tows and vessels in a situation where a delay would endanger life or property shall upon proper signal be passed through the draw.

Dated: March 14, 2006.
Greg Shapley,
Chief, Bridge Administration, Seventh Coast Guard District.

[FR Doc. 06-3177 Filed 3-31-06; 8:45 am]

BILLING CODE 4910-15-P